ENVIRONMENTAL PROTECTION AGENCY

[FRL-6929-7]

Acid Rain NOX Emission Reduction Program—Permit Modification for Alternative Emission Limitation

AGENCY: Environmental Protection Agency (EPA).

ACTION: Notice of permit modification adopting Alternative Emission Limitation.

SUMMARY: Under Title IV of the Clean Air Act, EPA established the Acid Rain NOX Emission Reduction Program to reduce the adverse effects of acidic deposition. EPA adopted nitrogen oxides ( NOX) emission limits and issued permits to affected sources. EPA is issuing Acid Rain permit modifications for two units at a source. Each permit modification adds a new NOX emission limitation, i.e., Alternative Emission Limitation for NOX emissions to the permit for the source. The Alternative Emission Limitations are less stringent than the standard limit for this type of unit but are the minimum rate that the units can achieve during long-term dispatch operation with low NOX burners.

ADDRESSES: Administrative Records. The administrative record for the permit modification, except information protected as confidential, may be viewed during normal operating hours at the following location: EPA Region 3, 1650 Arch Street 14th floor, Philadelphia, PA.

FOR FURTHER INFORMATION CONTACT: Linda Miller, EPA Region 3, (215) 814-2068.

SUPPLEMENTARY INFORMATION: In today's action, EPA is issuing permit modifications that add to a permit Alternative Emission Limitations for NOX emissions for two units in accordance with Parts 72 and 76 of the Acid Rain Program regulations. The units involved, Morgantown Units 1 and 2, are located in Charles County, Maryland and will be required to meet an annual average emissions limit for NOX of 0.63 lb/mmBtu and 0.64 lb/mmBtu, respectively, instead of the otherwise applicable standard limit of 0.45 lb/mmBtu. The units' designated representative is James S. Potts.

Dated: December 27, 2000.
Larry F. Kertcher,
Acting Director, Clean Air Markets Division, Office of Atmospheric Programs, Office of Air and Radiation.

[FR Doc. 01-366 Filed 1-4-01; 8:45 am]

BILLING CODE 6560-50-P